DEPARTMENT OF ENERGY

Agency Information Collection Extension

AGENCY: U.S. Department of Energy.

ACTION: Notice and request for comments.

SUMMARY: The Department of Energy (DOE), pursuant to the Paperwork Reduction Act of 1995, intends to extend for three years, an information collection package with the Office of Management and Budget (OMB) concerning legal collections related to invention reporting by DOE contractors, and related matters. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 7, 2005. If you anticipate difficulty in submitting comments within that period, contact the person listed below as soon as possible.

ADDRESSES: Written comments may be sent to: Robert J. Marchick, GC-62, U.S. Department of Energy, 1000 Independence Ave. SW., Washington, DC 20585; or by fax at 202 586-2805, or by e-mail at robert.marchick@hq.doe.gov and to: Sharon Evelin, Acting Director, IM-11/Germantown Bldg., U.S. Department of Energy, 1000 Independence Ave., SW., Washington, DC 10585-1290, or by fax at 301-903-9061 or by e-mail at sharon.evelin@hq.doe.gov.

FOR FURTHER INFORMATION CONTACT: Requests for additional information or copies of the information collection instrument and instructions should be directed to Robert Marchick at the address listed above.

SUPPLEMENTARY INFORMATION: This package contains: (1) OMB No. 1910-0800; (2) Package Title: Legal Collections; (3) Type of Review: Renewal; (4) Purpose: To continue to maintain DOE control and oversight of DOE and contractor invention reporting; (5) Respondents: Approx. 1894 respondents; (6) Estimated Number of Burden Hours: Approx. 14100 hours.

Statutory Authority: 42 U.S.C. 5908 (a) and (b)

Issued in Washington, DC on December 27, 2004.
Sharon Evelin,
Acting Director, Records Management Division, Office of the Chief Information Officer.

[FR Doc. 05-186 Filed 1-4-05; 8:45 am]

BILLING CODE 6450-01-P